DEPARTMENT OF ENERGY

Federal Energy Regulatory Commission

Combined Notice of Filings # 1

August 12, 2009.

Take notice that the Commission received the following exempt wholesale generator filings:

Docket Numbers: EG09-82-000.

Applicants: North Hurlburt Wind, LLC.

Description: Notice of Self-Certification of Exempt Wholesale Generator Status for North Hurlburt Wind, LLC.

Filed Date: 08/12/2009.

Accession Number: 20090812-5055.

Comment Date: 5 p.m. Eastern Time on Wednesday, September 02, 2009.

Docket Numbers: EG09-83-000.

Applicants: South Hurlburt Wind, LLC.

Description: Notice of Self-Certification of Exempt Wholesale Generator Status for South Hurlburt Wind, LLC.

Filed Date: 08/12/2009.

Accession Number: 20090812-5056.

Comment Date: 5 p.m. Eastern Time on Wednesday, September 02, 2009.

Docket Numbers: EG09-84-000.

Applicants: Horseshoe Bend Wind, LLC.

Description: Notice of Self Certification of Exempt Wholesale Generator Status for Horseshoe Bend Wind, LLC.

Filed Date: 08/12/2009.

Accession Number: 20090812-5062.

Comment Date: 5 p.m. Eastern Time on Wednesday, September 02, 2009.

Take notice that the Commission received the following electric rate filings:

Docket Numbers: ER06-748-002; ER06-763-002.

Applicants: Shell Chemical LP; Motiva Enterprises LLC.

Description: Shell Chemical, LP et al. submits Original Sheet 1 et al. to FERC Electric Tariff, First Revised Volume 1 to be effective.

Filed Date: 08/10/2009.

Accession Number: 20090811-0064.

Comment Date: 5 p.m. Eastern Time on Monday, August 31, 2009.

Docket Numbers: ER08-1439-002; EL09-32-000.

Applicants: New Brunswick Power Generation Corporation.

Description: Market Power Study Compliance Filing of New Brunswick Power Generation Corporation.

Filed Date: 08/10/2009.

Accession Number: 20090810-5077.

Comment Date: 5 p.m. Eastern Time on Wednesday, September 09, 2009.

Docket Numbers: ER09-369-002.

Applicants: PJM Interconnection, L.L.C.

Description: PJM Interconnection, LLC submits an errata to certain accepted tariff sheets.

Filed Date: 08/11/2009.

Accession Number: 20090811-0077.

Comment Date: 5 p.m. Eastern Time on Tuesday, September 01, 2009.

Docket Numbers: ER09-956-001.

Applicants: Ameren Services Company.

Description: Ameren Services Company submits refund report for the Wholesale Distribution Service Agreement between Union Electric Company and Wabash Valley Power Associates, Inc on behalf of Citizens Electric Corporation.

Filed Date: 08/11/2009.

Accession Number: 20090812-0057.

Comment Date: 5 p.m. Eastern Time on Tuesday, September 01, 2009.

Docket Numbers: ER09-1027-001.

Applicants: New York Independent System Operator, Inc.

Description: New York Independent System Operator, Inc submits errata to filing and request for 4/23/09 effective date for tariff correction.

Filed Date: 08/06/2009.

Accession Number: 20090807-0088.

Comment Date: 5 p.m. Eastern Time on Thursday, August 27, 2009.

Docket Numbers: ER09-1316-002.

Applicants: Midwest Independent Transmission System Operator, Inc.

Description: Midwest Independent Transmission System Operator, Inc submits Original Service Agreement 2064 et al. to FERC Electric Tariff, Fourth Revised Volume 1.

Filed Date: 08/07/2009.

Accession Number: 20090810-0007.

Comment Date: 5 p.m. Eastern Time on Friday, August 28, 2009.

Docket Numbers: ER09-1379-001.

Applicants: Ameren Services Company, Union Electric Company.

Description: Ameren Services Company submits executed revised WDS Agreement between Ameren Services and the City of Jackson.

Filed Date: 08/11/2009.

Accession Number: 20090812-0059.

Comment Date: 5 p.m. Eastern Time on Tuesday, August 18, 2009.

Docket Numbers: ER09-1543-001.

Applicants: Midwest Independent Transmission System Operator, Inc.

Description: Midwest Independent Transmission System Operator, Inc submits proposed amendment to Open Access Transmission, Energy and Operating Reserve Markets Tariff.

Filed Date: 08/11/2009.

Accession Number: 20090812-0058.

Comment Date: 5 p.m. Eastern Time on Tuesday, September 01, 2009.

Docket Numbers: ER09-1558-000.

Applicants: Southwest Power Pool, Inc.

Description: Southwest Power Pool, Inc submits an Agreement for Network Integration Transmission Service.

Filed Date: 08/07/2009.

Accession Number: 20090807-0111.

Comment Date: 5 p.m. Eastern Time on Friday, August 28, 2009.

Docket Numbers: ER09-1570-000.

Applicants: NorthWestern Corporation.

Description: NorthWestern Corporation submits its Average System Cost filing for sales of electric power to the Bonneville Power Administration.

Filed Date: 08/11/2009.

Accession Number: 20090811-0067.

Comment Date: 5 p.m. Eastern Time on Tuesday, September 01, 2009.

Docket Numbers: ER09-1571-000.

Applicants: Puget Sound Energy, Inc.

Description: Puget Sound Energy submits documents related to its Residential Purchase and Sale Agreement with Bonneville Power Administration for Commission review.

Filed Date: 08/11/2009.

Accession Number: 20090811-0066.

Comment Date: 5 p.m. Eastern Time on Tuesday, September 01, 2009.

Docket Numbers: ER09-1572-000.

Applicants: PJM Interconnection, L.L.C.

Description: PJM Interconnection, LLC submits executed interim interconnection service agreement among PJM, Streator-Cayuga Ridge Wind Power LLC and Commonwealth Edison Company.

Filed Date: 08/11/2009.

Accession Number: 20090812-0060.

Comment Date: 5 p.m. Eastern Time on Tuesday, September 01, 2009.

Take notice that the Commission received the following electric securities filings:

Docket Numbers: ES09-31-002.

Applicants: Entergy Texas, Inc.

Description: Supplemental Information of Entergy Texas, Inc.

Filed Date: 08/10/2009.

Accession Number: 20090810-5104.

Comment Date: 5 p.m. Eastern Time on Thursday, August 20, 2009.

Docket Numbers: ES09-38-001.

Applicants: Montana Alberta Tie Ltd.

Description: Supplemental Filing of Montana Alberta Tie Ltd.

Filed Date: 08/03/2009.

Accession Number: 20090803-5056.

Comment Date: 5 p.m. Eastern Time on Friday, August 21, 2009.

Docket Numbers: ES09-46-000.

Applicants: MATL LLP, Montana Alberta Tie Ltd.

Description: Application for Authorization to Issue Securities Under section 204 of the Federal Power Act.

Filed Date: 08/11/2009.

Accession Number: 20090811-5121.

Comment Date: 5 p.m. Eastern Time on Tuesday, August 25, 2009.

Take notice that the Commission received the following electric reliability filings:

Docket Numbers: RD09-9-000.

Applicants: North American Electric Reliability Corporation

Description: Petition of North American Electric Reliability Corporation for Approval of Errata Changes to Three Reliability Standards.

Filed Date: 08/12/2009.

Accession Number: 20090812-5042.

Comment Date: 5 p.m. Eastern Time on Friday, September 11, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E9-19931 Filed 8-19-09; 8:45 am]

BILLING CODE 6717-01-P